Title 3—

The President

Proclamation 10209 of May 14, 2021

Revoking Proclamation 9945

By the President of the United States of America

A Proclamation

The suspension of entry imposed in Proclamation 9945 of October 4, 2019 (Suspension of Entry of Immigrants Who Will Financially Burden the United States Healthcare System, in Order To Protect the Availability of Healthcare Benefits for Americans), does not advance the interests of the United States. My Administration is committed to expanding access to quality, affordable healthcare. We can achieve that objective, however, without barring the entry of noncitizens who seek to immigrate lawfully to this country but who lack significant financial means or have not purchased health insurance coverage from a restrictive list of qualifying plans. The suspension of entry imposed in Proclamation 9945 is also in tension with the policy set forth in section 1 of Executive Order 14012 of February 2, 2021 (Restoring Faith in Our Legal Immigration Systems and Strengthening Integration and Inclusion Efforts for New Americans).

NOW, THEREFORE, I, JOSEPH R. BIDEN JR., President of the United States, by the authority vested in me by the Constitution and the laws of the United States of America, including sections 212(f) and 215(a) of the Immigration and Nationality Act, 8 U.S.C. 1182(f) and 1185(a), hereby find that the unrestricted entry into the United States of noncitizen immigrants based solely on the reasons articulated in Proclamation 9945 is not detrimental to the interests of the United States. I therefore hereby proclaim the following:

Section 1. Revocation. Proclamation 9945 is revoked.

Sec. 2. Review of Agency Actions. The Secretary of State, the Secretary of Health and Human Services, and the Secretary of Homeland Security shall review any regulations, orders, guidance documents, policies, and any other similar agency actions developed pursuant to Proclamation 9945 and, as appropriate, issue revised guidance consistent with the policy set forth in this proclamation.

Sec. 3. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this fourteenth day of May, in the year of our Lord two thousand twenty-one, and of the Independence of the United States of America the two hundred and forty-fifth.

[FR Doc. 2021-10686

Filed 5-18-21; 8:45 am]

Billing code 3295-F1-P